SOCIAL SECURITY ADMINISTRATION

Ticket to Work and Work Incentives Advisory Panel Meeting

AGENCY: Social Security Administration (SSA).

ACTION: Notice of meeting (Emergency Location Change).

DATES: July 24, 2000, 1:30 p.m.-5:00 p.m. and July 25, 2000, 9:00 a.m.-4:30 p.m.

ADDRESSES: Sheraton Crystal City, 1800 Jefferson Davis Highway, Arlington, VA 22202.

SUPPLEMENTARY INFORMATION: Type of meeting: The meeting is open to the public.

Purpose: In accordance with section 10(a)(2) of the Federal Advisory Committee Act, the Social Security Administration (SSA) announces the first meeting of the Ticket to Work and Work Incentives Advisory Panel (the Panel). Section 101(f) of the Ticket to Work and Work Incentives Improvement Act of 1999 (TWWIIA), Public Law 106-170, establishes the Panel to advise the Commissioner of Social Security, the President, and the Congress on issues related to work incentives programs, planning, and assistance for individuals with disabilities as provided under section 101(f)(2)(A) of TWWIIA. The Panel is also to advise the Commissioner on matters specified in section 101(f)(2)(B) of that Act, including certain issues related to the Ticket to Work and Self-Sufficiency Program established under section 101(a) of that Act.

This is the first deliberative meeting of the Panel. No public testimony will be heard at this meeting. However, interested parties are invited to attend the meeting. The Panel will meet to hear presentations on the status of TWWIIA implementation, review their charter, and discuss their organization and upcoming agenda.

Agenda: The Panel will meet commencing Monday, July 24, 2000 at, 1:30 p.m.-5:00 p.m. and Tuesday, July 25, 2000, at 9:00 a.m.-4:30 p.m. At this meeting, the Panel will use this time to hear presentations on the Status of TWWIIA implementation, review their charter, and discuss their organization and upcoming agenda. Since seating may be limited, persons interested in attending this meeting should contact the Panel staff by E-mailing Reggie Sajauskas, Designated Federal Officer, at “reggie.sajauskas@ssa.gov” or calling (410) 965-5381 by July 21, 2000.

The agenda for the meeting is posted on the Internet at the web site of SSA' Office of Employment Support Programs at “http://www.ssa.gov/work.” A copy of the agenda also may be obtained in advance of the meeting by contacting the Panel staff at the mailing address, Email address, telephone or FAX number shown below. Requests for materials in alternate formats, i.e., large print, Braille, computer disc, etc. may be made to the Panel staff at the addresses and numbers shown below.

Records are being kept of all Panel proceedings and will be available for public inspection at the Office of Employment Support Programs' web site at “http://www.ssa.gov/work” or by appointment at the office of the Ticket to Work and Work Incentives Advisory Panel staff, 107 Altmeyer Building, 6401 Security Boulevard, Baltimore, MD 21235. Anyone requiring information regarding the Panel should contact the Panel staff by:

• Mail addressed to Social Security Administration, Ticket to Work and Work Incentives Advisory Panel Staff, 107 Altmeyer Building, 6401 Security Boulevard, Baltimore, MD 21235;

• Telephone at (410) 965-5381;

• FAX at (410) 966-8597; or

• Email to Reggie Sajauskas, Designated Federal Officer, at “reggie.sajauskas@ssa.gov.”

Michael S. Greenberg,
Acting Deputy Associate Commissioner, Office of Employment Support Programs, Social Security Administration.

[FR Doc. 00-18601 Filed 7-20-00; 8:45 am]

BILLING CODE 4191-02-U